DEPARTMENT OF LABOR

Employment and Training Administration

[TA-W-63,904]

Nestaway, LLC, Garfield Heights, OH; Notice of Negative Determination on Reconsideration

On December 10, 2008, the Department issued an Affirmative Determination Regarding Application for Reconsideration for the workers and former workers of the subject firm. The notice was published in the Federal Register on December 18, 2008 (73 FR 77064).

The initial investigation resulted in a negative determination based on the finding that imports of dishwasher rack components did not contribute importantly to worker separations at the subject firm and no shift of production to a foreign source occurred.

The petitioner alleged that the workers of the subject firm manufactured not only dishwasher rack components but also vending machine trays and surgical baskets for specific customers. The petitioner provided the names of these customers.

A company official was contacted to verify the above allegation. The company official stated that the subject firm did not manufacture vending machine trays and surgical baskets during the relevant period (since August 19, 2007, twelve months prior to the date of the petition).

The company official confirmed that during the initial investigation, the subject firm supplied the Department with a complete list of all customers, who purchased products from the subject firm in 2006, 2007 and January through August 2008. The investigation revealed a major declining customer, representing nearly all of the subject firm's total sales, did not import wire dishrack components and service racks during 2006, 2007 and during the January through August 2008 period.

The petitioner also alleged that the parent company of Nestaway and several subject firm's customers had been certified eligible for TAA.

Whether the subject firm's customers are under current TAA certification is relevant to a determination of whether subject firm workers are eligible for TAA based on the subject firm being a secondary upstream supplier of a trade certified primary firm. For certification on the basis of the workers' firm being a secondary upstream supplier, the subject firm must produce component parts of an article that was the basis for a TAA certification of a customer during the relevant period.

The Department conducted further review and determined that none of the customers of the subject firm was certified eligible for TAA during the relevant period.

Conclusion

After reconsideration, I affirm the original notice of negative determination of eligibility to apply for worker adjustment assistance for workers and former workers of Nestaway, LLC, Garfield Heights, Ohio.

Signed at Washington, DC, this 30th day of January 2009.
Elliott S. Kushner,
Certifying Officer, Division of Trade Adjustment Assistance.

[FR Doc. E9-3033 Filed 2-12-09; 8:45 am]

BILLING CODE 4510-FN-P